DEPARTMENT OF TRANSPORTATION

Federal Aviation Administration

14 CFR Part 39

[Docket No. FAA-2012-0601; Directorate Identifier 2008-SW-033-AD; Amendment 39-17306; AD 2012-26-11]

RIN 2120-AA64

Airworthiness Directives; Bell Helicopter Textron Inc. Helicopters

AGENCY: Federal Aviation Administration (FAA), DOT.

ACTION: Final rule.

SUMMARY: We are adopting a new airworthiness directive (AD) for the Bell Helicopter Textron Inc. (BHTI) Model 205A, 205A-1, and 205B helicopters with certain starter/generator power cable assemblies (power cable assemblies). This AD requires replacing the power cable assemblies and their associated parts, and performing continuity readings. This AD was prompted by the determination that the power cable assembly connector (connector) can deteriorate, causing a short in the connector that may lead to a fire in the starter/generator, smoke in the cockpit that reduces visibility, and subsequent loss of helicopter control.

DATES: This AD is effective February 13, 2013.

The Director of the Federal Register approved the incorporation by reference of certain documents listed in this AD as of February 13, 2013.

ADDRESSES: For service information identified in this AD, contact Bell Helicopter Textron, Inc., P.O. Box 482, Fort Worth, TX 76101; telephone (817) 280-3391; fax (817) 280-6466; or at http://www.bellcustomer.com/files/. You may review a copy of the referenced service information at the FAA, Office of the Regional Counsel, Southwest Region, 2601 Meacham Blvd., Room 663, Fort Worth Texas 76137.

Examining the AD Docket

You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Andy Shaw, Aviation Safety Engineer, Safety Management Group, Rotorcraft Directorate, FAA, 2601 Meacham Blvd., Fort Worth, TX 76137; telephone (817) 222-5110; email andy.shaw@faa.gov.

SUPPLEMENTARY INFORMATION:

Discussion

On June 13, 2012, at 77 FR 35306, the Federal Register published our notice of proposed rulemaking (NPRM), which proposed to amend 14 CFR part 39 to include an AD that would apply to BHTI Model 205A, 205A-1, and 205B helicopters with power cable assemblies, part numbers (P/N) 205-075-902-017 and P/N 205-075-911-007, installed. That NPRM proposed to require replacing the power cable assemblies and their associated parts, and performing continuity readings. The proposed requirements were intended to prevent a short in the connector that may lead to a fire in the starter/generator, smoke in the cockpit that reduces visibility, and subsequent loss of helicopter control.

Comments

We gave the public the opportunity to participate in developing this AD, but we received no comments on the NPRM (77 FR 35306, June 13, 2012).

FAA's Determination

We have reviewed the relevant information and determined that an unsafe condition exists and is likely to exist or develop on other products of these same type designs and that air safety and the public interest require adopting the AD requirements as proposed.

Related Service Information

We have reviewed BHTI Alert Service Bulletin (ASB) No. 205-07-94, Revision A, dated December 8, 2008, for Model 205A and 205A-1 helicopters; and BHTI ASB No. 205B-08-50, dated December 8, 2008, for the Model 205B helicopter. These ASBs describe procedures for replacing the power cable assemblies and associated parts. The ASBs specify that operators can obtain a starter/generator cable kit that contains the required replacement parts.

Costs of Compliance

We estimate that this AD will affect 31 helicopters of U.S. registry. The actions will take about 10 work-hours per helicopter to accomplish at an average labor rate of $85 per work hour. Required parts will cost about $12,654 for the power cable assembly replacement kit. Based on these figures, the cost of the AD on U.S. operators will be $13,504 per helicopter, or $418,624 for the fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-26-11 Bell Helicopter Textron Inc.: Amendment 39-17306; Docket No. FAA-2012-0601; Directorate Identifier 2008-SW-033-AD.

(a) Applicability

This AD applies to Bell Helicopter Textron Inc. (BHTI) Model 205A, 205A-1, and 205B helicopters with starter/generator power cable assemblies (power cable assemblies), part number (P/N) 205-075-902-017 and P/N 205-075-911-007 installed, certificated in any category.

(b) Unsafe Condition

This AD defines the unsafe condition as the power cable assembly connector (connector) deterioration, which can cause a short in the connector potentially leading to a fire in the starter/generator. A fire would result in smoke in the cockpit, reducing visibility, and risking loss of control of the helicopter.

(c) Effective Date

This AD becomes effective February 13, 2013.

(d) Compliance

You are responsible for performing each action required by this AD within the specified compliance time unless accomplished previously.

(e) Required Actions

Within six months, replace the power cable assemblies using the parts contained in starter/generator kit P/N CT205-07-94-1, perform a continuity test, and connect wires to the starter generator as follows:

(1) For Model 205A and 205A-1 helicopters, follow the Accomplishment Instructions, paragraphs 2 through 16(c), of BHTI Alert Service Bulletin No. 205-07-94, Revision A, dated December 8, 2008.

(2) For the Model 205B helicopters, follow the Accomplishment Instructions, paragraphs 2 through 16(c), of BHTI Alert Service Bulletin No. 205B-08-50, dated December 8, 2008.

(f) Alternative Methods of Compliance (AMOCs)

(1) The Manager, Safety Management Group, FAA, may approve AMOCs for this AD. Send your proposal to: Andy Shaw, Aviation Safety Engineer, Safety Management Group, Rotorcraft Directorate, FAA, 2601 Meacham Blvd., Fort Worth, TX 76137; telephone (817) 222-5110; email andy.shaw@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Subject

Joint Aircraft Service Component (JASC) Code: 2497, electrical power system wiring.

(h) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Bell Helicopter Textron Inc. Alert Service Bulletin No. 205-07-94, Revision A, dated December 8, 2008.

(ii) Bell Helicopter Textron Inc. Alert Service Bulletin No. 205B-08-50, dated December 8, 2008.

(3) For Bell Helicopter Textron Inc. service information identified in this AD, contact Bell Helicopter Textron, Inc., P.O. Box 482, Fort Worth, TX 76101; telephone (817) 280-3391; fax (817) 280-6466; or at http://www.bellcustomer.com/files/.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/index.html.

Issued in Fort Worth, Texas, on December 20, 2012.
Kim Smith,
Directorate Manager, Rotorcraft Directorate, Aircraft Certification Service.

[FR Doc. 2012-31586 Filed 1-8-13; 8:45 am]

BILLING CODE 4910-13-P